DEPARTMENT OF TRANSPORTATION

Federal Railroad Administration

Petition for Waiver of Compliance

In accordance with part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

City of Waukesha, Wisconsin

[Waiver Petition Docket Number FRA-2008-0067]

The City of Waukesha, Wisconsin (City) seeks a permanent waiver of compliance from certain provisions of 49 CFR part 222, which pertain to the establishment of Pre-Rule Quiet Zones. The City intends to establish a Pre-Rule Quiet Zone that it had previously continued under the provisions of 49 CFR 222.41(c)(1). The City is seeking a waiver to extend: (1) the mailing date for a Notice of Intent as provided in 49 CFR 222.41(c)(2)(i)(A) that states that the Notice of Intent must be mailed by February 24, 2008, and (2) the filing date for a Detailed Plan as provided in 49 CFR 222.41(c)(2)(i)(B) that states that the detailed plan must be filed with FRA by June 24, 2008. The waiver petition also requests that the City be allowed to resubmit its Notice of Intent that was originally filed on March 4, 2008, in order to correct data errors in its original submission.

The City states that it made an honest attempt to prepare the Notice of Intent which was mailed on March 4, 2008. However, after a diagnostic meeting was held on May 8, 2008, it was discovered that the Notice of Intent contained a number of errors and the calculation of risk levels should be revised. The City has now retained a consultant with national quiet zone experience and requests the time extension in order to prepare an updated Notice of Intent which will accurately present risk levels so correct treatments can be planned to protect public safety.

The City seeks the waiver in order to continue the restrictions on routine sounding of locomotive horns along the current Main Line Quiet Zone (from Moreland Boulevard, MP 98.59 to Sunset Drive, MP 95.94). The City included a letter from the Wisconsin Central Ltd. Railroad (WCL) dated May 15, 2008, indicating the railroad's support of the waiver petition to extend the deadlines for filing a Notice of Intent and providing a Detailed Plan. However, subsequent correspondence from WCL dated June 23, 2008, indicates that WCL has withdrawn its support for the City's waiver petition, based upon the failure of the City and WCL to come to agreement on the terms of the public safety enhancements for the affected highway-rail grade crossings.

Interested parties are invited to participate in these proceedings by submitting written views, data, or comments. In particular, the City is invited to provide additional written information about the steps that it has taken to reach agreement with WCL on the City's request to extend the deadlines contained in 49 CFR 222.41(c)(2), as well as a written explanation as to why application of the joint submission requirement contained in 49 CFR 222.15(a) would not be likely to contribute significantly to public safety.

FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2008-0067) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 20 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on July 23, 2008.
Grady C. Cothen, Jr.,
Deputy Associate Administrator for Safety Standards and Program Development.

[FR Doc. E8-17394 Filed 7-28-08; 8:45 am]

BILLING CODE 4910-06-P